DEPARTMENT OF TRANSPORTATION

National Highway Traffic Safety Administration

49 CFR Part 501

[Docket No. NHTSA-2015-0129]

RIN 2127-AL46

Organization and Delegation of Duties

AGENCY: National Highway Traffic Safety Administration (NHTSA), Department of Transportation (DOT).

ACTION: Final rule.

SUMMARY: National Highway Traffic Safety Administration (NHTSA), Department of Transportation (DOT) is updating its regulations governing the organization of NHTSA and delegations of authority from the Administrator to Agency officials, to provide for a reorganization of the Agency's internal structure. These changes will enable NHTSA to achieve its mission more effectively and efficiently.

DATES: This rule is effective February 4, 2016.

FOR FURTHER INFORMATION CONTACT: Mr. Russell Krupen, Office of the Chief Counsel, National Highway Traffic Safety Administration, 1200 New Jersey Avenue SE., Washington, DC 20590. Telephone: (202) 366-1834.

SUPPLEMENTARY INFORMATION:

I. Background

This final rule amends 49 CFR part 501, the chapter of the Code of Federal Regulations (CFR) that sets forth the organization of the National Highway Traffic Safety Administration (NHTSA) and delegations of authority from the NHTSA Administrator to other Agency officials, to reflect a reorganization of the Agency's internal structure, to update out-of-date information, and to improve accuracy and clarity. In addition, this rule amends the succession to the Administrator to conform to the new organizational structure. These changes will enable the Agency to achieve its mission more effectively and efficiently.

In particular, NHTSA is eliminating the Senior Associate Administrator positions that were created in 2002 (67 FR 44083) from its internal organization and adding the Executive Director and the Chief Financial Officer positions, as well as their functions and responsibilities. Conforming changes to the regulations, including descriptions of the Associate Administrator positions, succession to the Administrator, and delegations of authority, are included. Additional changes have been made to improve formatting and consistency throughout part 501.

The amendments in this final rule relate solely to changes in the organizational structure and the placement of the delegations of authority for various functions within the agency. This final rule does not impose substantive requirements on the public. It is ministerial in nature and relates only to Agency management, organization, procedure, and practice. Therefore, the Agency has determined that notice and comment are unnecessary and that the rule is exempt from prior notice and comment requirements under 5 U.S.C. 553(b)(3)(A). As these changes will not have a substantive impact on the public, the Agency does not expect to receive significant comments on the substance of the rule. Therefore, the Agency finds that there is good cause under 5 U.S.C. 553(d)(3) to make this rule effective less than 30 days after publication in the Federal Register.

II. Regulatory Analyses and Notices

Executive Order 12866 (Regulatory Planning and Review) and DOT Regulatory Policies and Procedures

NHTSA has determined that this final rule is not a significant regulatory action under Executive Order 12866 and DOT Regulatory Policies and Procedures (44 FR 11034). It was not reviewed by the Office of Management and Budget. There are no costs associated with this rule.

Executive Order 13132 (Federalism)

This final rule has been analyzed in accordance with the principles and criteria contained in Executive Order 13132 (“Federalism”). This final rule does not have substantial direct effects on the States, on the relationship between the national government and the States, or on the distribution of power and responsibilities among the various levels of government. Therefore, the consultation requirements of Executive Order 13132 do not apply.

Executive Order 13175 (Consultation and Coordination With Indian Tribal Governments)

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

Regulatory Flexibility Act

Because no notice of proposed rulemaking is required for this rule under the Administrative Procedure Act, 5 U.S.C. 553, the provisions of the Regulatory Flexibility Act (5 U.S.C. 601 et seq.) do not apply. This rule will not impose any costs on small entities because it is merely organizational in nature and will not have a substantive impact on the public. I hereby certify that this final rule will not have a significant economic impact on a substantial number of small entities.

Paperwork Reduction Act

This rule contains no information collection requirements under the Paperwork Reduction Act of 1995 (44 U.S.C. 3501-3520).

Unfunded Mandates Reform Act

The Unfunded Mandates Reform Act of 1995 (2 U.S.C. 1531-1538) does not require a written statement for this final rule because the rule does not include a Federal mandate that may result in the expenditure in any one year by State, local, and tribal governments, or the private sector, exceeding the threshold set forth in 2 U.S.C. 1532(a).

List of Subjects in 49 CFR Part 501

Authority delegations (Government agencies), Organization and functions (Government agencies).

For the reasons stated in the preamble, NHTSA revises 49 CFR part 501 to read as follows:

PART 501—ORGANIZATION AND DELEGATION OF POWERS AND DUTIES

Sec.
501.1 Purpose.
501.2 General.
501.3 Organization and general responsibilities.
501.4 Succession to Administrator.
501.5 Exercise of authority.
501.6 Secretary's reservations of authority.
501.7 Administrator's reservations of authority.
501.8 Delegations.

Authority: 49 U.S.C. 105 and 322, and delegations of authority at 49 CFR 1.81 and 1.95.

§ 501.1 Purpose.

This part describes the organization of the National Highway Traffic Safety Administration (NHTSA), an operating administration within the U.S. Department of Transportation, and provides for the performance of duties imposed on, and the exercise of powers vested in, the Administrator of NHTSA.

§ 501.2 General.

The responsibilities and authorities delegated to NHTSA and the Administrator are set forth in §§ 1.81, 1.94, and 1.95 of this title.

§ 501.3 Organization and general responsibilities.

NHTSA consists of a headquarters organization located in Washington, DC, a unified field organization consisting of ten geographic regions with a Regional Office located in each region, the Vehicle Research and Test Center located in East Liberty, Ohio, and the Uniform Tire Quality Grading Test Facility located in San Angelo, Texas. The organization of, and general spheres of responsibility within, NHTSA are as follows:

(a) Office of the Administrator—(1) Administrator. (i) Represents the Department and is the principal advisor to the Secretary in all matters related to 49 U.S.C. chapters 301, 303, 321, 323, 325, 327, 329 and 331; 23 U.S.C. chapter 4, except section 409; 23 U.S.C. 153, 154, 158, 161, 163, 164 and 313 (with respect to matters within the primary responsibility of NHTSA); and such other responsibilities and authorities as are delegated by the Secretary of Transportation (49 CFR 1.94 and 1.95);

(ii) Establishes NHTSA program policies, objectives, and priorities and directs the development of action plans to accomplish the NHTSA mission;

(iii) Directs, controls, and evaluates the organization, program activities, performance of NHTSA staff, program and field offices;

(iv) Approves broad legislative, budgetary, fiscal and program proposals and plans; and

(v) Takes management actions of major significance, such as those relating to changes in basic organizational structure, appointment of key personnel, allocation of resources, and matters of special political or public interest or sensitivity.

(2) Deputy Administrator. Assists the Administrator in discharging responsibilities. Directs and coordinates the Administration's management and operational programs, and related policies and procedures at headquarters and in the field.

(3) Executive Director. As the principal advisor to the Administrator and Deputy Administrator, provides direction on internal management and mission support programs. Provides executive direction over the Associate Administrators, Chief Financial Officer, and Chief Information Officer.

(4) Director, Office of Civil Rights. As the principal advisor to the Administrator and Deputy Administrator on all matters pertaining to civil rights, serves as Director of Equal Employment Opportunity and of Title VI Compliance (Civil Rights Act of 1964, as amended, and related regulations). Assures agency compliance with Section 504 of the Rehabilitation Act of 1973, the Americans with Disabilities Act (ADA), and other nondiscrimination statutes, regulations, Executive Orders, and policies. Periodically reviews and evaluates the civil rights programs of State Department of Motor Vehicles and Highway Safety Offices to ensure that recipients of NHTSA financial assistance meet applicable Federal civil rights requirements. Monitors the implementation of and compliance with civil rights requirements, investigates complaints of discrimination, conducts compliance reviews, provides technical assistance to recipients of NHTSA financial assistance and stakeholders, and provides assistance to the Office of the Secretary in investigating and adjudicating formal complaints of discrimination.

(5) Director, Office of Governmental Affairs, Policy & Strategic Planning. As the principal advisor to the Administrator and Deputy Administrator on all intergovernmental matters, including communications with Congress, communicates agency policy and serves as coordinator on legislative affairs. Also, serves as coordinator of agency policy discussions and activities and communicates with other operating administrations and the Office of Secretary on strategic planning efforts.

(6) Director of Communications. As the principal advisor to the Administrator and Deputy Administrator on external communications and information dissemination, serves as coordinator on public affairs.

(b) Chief Counsel. As chief legal officer for the Administrator and the Administration, provides general legal services and legal services related to legislative activities; prepares litigation and issues subpoenas; and effects rulemaking actions.

(c) Associate Administrators, Chief Financial Officer, and Chief Information Officer—(1) Associate Administrator for Administration. Administers and conducts NHTSA's personnel management activities; initiates and oversees a comprehensive program of administrative support services to meet agency requirements, including development, maintenance, and operation of NHTSA's manuals, notices, and orders, property management, and the purchase, delivery, and administration of a range of supplies, equipment, and other support services; is responsible for administrative operational expenses and working capital fund operations; serves as the agency's technical expert for all administrative activities; and administers an executive correspondence program and maintains policy files for the Administrator and Deputy Administrator.

(2) Associate Administrator for Communications and Consumer Information. Represents NHTSA to the general public and others; provides reliable, timely, and accurate traffic safety information to the general public, consumers, partner organizations, and citizens groups through media and public education efforts; and provides scheduling and speechwriting support for the Administrator.

(3) Associate Administrator for Enforcement. Directs matters related to the enforcement of motor vehicle safety, fuel economy, theft prevention, damageability, consumer information, and odometer laws and regulations; conducts testing, inspection, and investigation necessary for the identification and correction of safety-related defects in motor vehicles and motor vehicle equipment; and ensures recalls of noncomplying and defective vehicles and motor vehicle equipment are effective and are conducted in accordance with Federal law and regulations.

(4) Associate Administrator for National Center for Statistics and Analysis. Provides the data, analysis, and evaluation to support determination of the nature, causes, and injury outcomes of motor vehicle traffic crashes, the strategies and interventions that will reduce crashes and their consequences, and the potential impact, costs, and benefits of highway safety programs and regulatory activities; targets the collection and analysis of data and the dissemination of information to identify potential highway safety problems, evaluate expected program and regulatory impact and actual goal achievement, and support data driven decisions; and identifies, advances, and promotes new methodologies, technologies, systems, and procedures that improve the completeness, accuracy, timeliness, and accessibility of data collection, analysis, and evaluation.

(5) Associate Administrator for Regional Operations and Program Delivery. Directs the management of State and community highway safety programs; administers and coordinates all Regional activities, including activities having a headquarters-regional interface; develops, reviews, implements, and coordinates related programs, policies, and procedures; and coordinates with the Federal Highway Administration, the Federal Motor Carrier Safety Administration, and other Federal agencies on traffic safety programs, as appropriate.

(6) Associate Administrator for Research and Program Development. Administers traffic safety programs and provides national leadership and technical assistance to States, local communities, national organizations, and other partners in the identification, research, planning, development, demonstration, implementation, evaluation, and dissemination of highway safety programs designed to prevent or reduce traffic-related crashes and the resulting deaths, injuries, property damage, and associated costs. Coordinates with the Federal Highway Administration, the Federal Motor Carrier Safety Administration, and other Federal agencies on traffic safety programs, as appropriate.

(7) Associate Administrator for Rulemaking. Develops and promulgates Federal standards dealing with motor vehicle safety, theft prevention, consumer information, the National Driver Register, and fuel economy, and directs programs relating to bumper standards, safety performance standards, and other regulations for new and used motor vehicles and equipment, including tires. Develops and conducts the New Car Assessment Program.

(8) Associate Administrator for Vehicle Safety Research. Develops and conducts research, development, test, and evaluation programs and projects necessary to support consumer information programs, guidelines, industry voluntary standards, and Federal motor vehicle regulations; manages the facilities and programs related to these activities; and conducts crash data analyses in defining safety problems.

(9) Chief Financial Officer. Administers the agency planning and budget activities in coordination with the Department of Transportation, the Office of Management and Budget, and Congress; assures the appropriate development of budget requests and the subsequent execution of operating budgets within the agency to meet all programmatic requirements; conducts all necessary accounting transactions to assure full and accurate accountability for all financial resources of the agency; initiates and oversees a comprehensive program of acquisition support for agency buying and supplier requirements, including acquisition planning, purchasing, payments, and administration; facilitates, coordinates, tracks, and monitors all external audits, reviews, and other oversight activities of agency programs, finances, transactions, or activities—working closely with responsible program and operational officials; facilitates and oversees the agency travel program, including the administration and operation of the travel management system, the travel card program, and the provision of travel management advice and guidance; and serves as the agency's technical expert for all financial management activities.

(10) Chief Information Officer. Administers all NHTSA Information Technology functions and needs to ensure that IT resources are effectively acquired and managed to maximize mission performance and return on IT investments.

§ 501.4 Succession to Administrator.

(a) The Deputy Administrator is the “first assistant” to the Administrator for purposes of the Federal Vacancies Reform Act of 1998 (5 U.S.C. 3345-3349d) and shall, in the event the Administrator dies, resigns, or is otherwise unable to perform the functions and duties of the office, serve as the Acting Administrator, subject to the limitations established by law.

(b) In the event both the Administrator and the Deputy Administrator die, resign, and/or are otherwise unable to perform the functions and duties of their respective offices, or in the event that both positions are vacant, the following officials, subject to paragraph (c) and in the order indicated, shall serve as Acting Deputy Administrator and shall perform the functions and duties of the Administrator, except for any non-delegable statutory and/or regulatory functions and duties:

(1) The Chief Counsel;

(2) The Executive Director;

(3) Further officials as may be designated in an internal order on succession.

(c) In order to qualify for the line of succession, officials must be encumbered in their position on a permanent basis.

§ 501.5 Exercise of authority.

(a) All authorities lawfully vested in and reserved to the Administrator in this title, part, or other NHTSA regulation or directive may be exercised by the Deputy Administrator and, in the absence or disability of both officials, by the Chief Counsel, unless specifically prohibited by statute, regulation, or order.

(b) In exercising the powers and performing the duties delegated by this part, officers of NHTSA and their delegates are governed by applicable laws, executive orders, regulations, and other directives, and by policies, objectives, plans, standards, procedures, and limitations as may be issued from time to time by or on behalf of the Secretary of Transportation, the Administrator, the Deputy Administrator, the Chief Counsel, and the Executive Director or, with respect to matters under their jurisdiction, by or on behalf of the Associate Administrators, the Regional Administrators, and the Directors of Staff Offices.

(c) Each officer to whom authority is delegated by this part may redelegate and authorize successive redelegations of that authority subject to any conditions the officer prescribes.

(d) Each officer to whom authority is delegated will administer and perform the functions described in the officer's respective functional statements.

§ 501.6 Secretary's reservations of authority.

The authorities reserved to the Secretary of Transportation are set forth in § 1.21 of this title.

§ 501.7 Administrator's reservations of authority.

The delegations of authority in this part do not extend to the following authority, which is reserved to the Administrator, except when exercised pursuant to §§ 501.4 and 501.5(a):

(a) The authority under 23 U.S.C. chapter 4 (except section 403) and any uncodified provision of law to apportion authorization amounts and distribute obligation limitations or award grants to States for highway safety programs or other highway safety purposes;

(b) The authority to issue, amend, or revoke uniform State highway safety guidelines and rules identifying highly effective highway safety programs under 23 U.S.C. 402;

(c) The authority to fix the rate of compensation for non-government members of agency sponsored committees which are entitled to compensation.

(d) The authority under 49 U.S.C. chapter 301 to:

(1) Issue, amend, or revoke final Federal motor vehicle safety standards and regulations;

(2) Make final decisions concerning alleged safety-related defects and noncompliances with Federal motor vehicle safety standards;

(3) Grant or renew temporary exemptions from Federal motor vehicle safety standards; and

(4) Grant or deny appeals from determinations upon a manufacturer's petition for decision of inconsequential defect or noncompliance and exemption from the notification and remedy requirements of 49 U.S.C. chapter 301 in connection with a defect or noncompliance.

(e) The authority under 49 U.S.C. chapters 303, 321, 323, 325, and 329 (except section 32916(b)) to:

(1) Issue, amend, or revoke final rules and regulations; and

(2) Assess civil penalties and approve manufacturer fuel economy credit plans under chapter 329.

(f) The authority to carry out, in coordination with the Federal Motor Carrier Safety Administrator, the authority vested in the Secretary by 49 U.S.C. chapter 311 subchapter III, to promulgate safety standards for commercial motor vehicles and equipment subsequent to initial manufacture when the standards are based upon and similar to a Federal Motor Vehicle Safety Standard promulgated, either simultaneously or previously, under 49 U.S.C. chapter 301.

§ 501.8 Delegations.

(a) Deputy Administrator. The Deputy Administrator is delegated authority to act for the Administrator, except where specifically limited by law, order, regulation, or instructions of the Administrator. The Deputy Administrator is delegated authority to assist the Administrator in providing executive direction to all organizational elements of NHTSA.

(b) Executive Director. The Executive Director is delegated line authority for executive direction over the Associate Administrators, the Chief Financial Officer, and the Chief Information Officer.

(c) Director, Office of Civil Rights. The Director, Office of Civil Rights is delegated authority to:

(1) Serve as the Director of Equal Employment Opportunity.

(2) Serve as the compliance coordinator for:

(i) Title VI of the Civil Rights Act of 1964 (42 U.S.C. 2000d et seq.), as amended, and related regulations;

(ii) Section 504 of the Rehabilitation Act of 1973;

(iii) The Americans with Disabilities Act (ADA); and

(iv) Other nondiscrimination statutes, regulations, Executive Orders, and policies.

(3) Investigate complaints of civil rights discrimination, conduct compliance reviews, and provide technical assistance to recipients of NHTSA financial assistance and stakeholders.

(4) Review and evaluate the civil rights programs of State Department of Motor Vehicles and Highway Safety Offices to ensure that recipients of NHTSA financial assistance meet applicable Federal civil rights requirements.

(d) Chief Counsel. The Chief Counsel is delegated authority to:

(1) Exercise the powers and perform the duties of the Administrator with respect to:

(i) Issuing odometer regulations authorized under 49 U.S.C. chapter 327.

(ii) Providing technical assistance and granting extensions of time to the states under 49 U.S.C. 32705.

(iii) Granting or denying petitions for approval of alternate motor vehicle mileage disclosure requirements under 49 U.S.C. 32705.

(2) Establish the legal sufficiency of all investigations and enforcement actions conducted under the authority of 49 U.S.C. chapters 301, 303, 321, 323, 325, 327, 329 and 331; to make an initial penalty demand based on a violations of any of these chapters; and to compromise:

(i) Any civil penalty imposed under 49 U.S.C. 30165 in an amount of $1,000,000 or less.

(ii) Any civil penalty or monetary settlement other than those imposed under 49 U.S.C. 30165 in an amount of $100,000 or less.

(3) Exercise the powers of the Administrator under 49 U.S.C. 30166(c), (g), (h), (i), and (k).

(4) Issue subpoenas, after notice to the Administrator, for the attendance of witnesses and production of documents pursuant to 49 U.S.C. chapters 301, 321, 323, 325, 327, 329 and 331.

(5) Issue authoritative interpretations of the statutes administered by NHTSA and the regulations issued by the agency.

(6) Administer 5 U.S.C. 552 (FOIA) and 49 CFR part 7 (Public Availability of Information) in connection with the records of NHTSA.

(7) Administer the Privacy Act of 1974, 5 U.S.C. 552a, and 49 CFR part 10 (Maintenance of and Access to Records Pertaining to Individuals) in connection with the records of NHTSA.

(8) Carry out the functions and exercise the authority vested in the Secretary for 23 U.S.C. 313 (Buy America), with respect to matters within the primary responsibility of NHTSA.

(e) Associate Administrator for Administration. The Associate Administrator for Administration is delegated authority to administer and conduct NHTSA's personnel management activities; conduct administrative and management services in support of NHTSA missions and programs; and administer an executive correspondence program.

(f) Associate Administrator for Communications and Consumer Information. The Associate Administrator for Communications and Consumer Information is delegated authority to manage and coordinate market research, planning coordination, development, and promotion of public education campaigns for both paid media and unpaid public services to support program efforts; develop overall agency messaging and communications strategies in support of program initiatives; and develop agency policies on messaging and communications procedures and processes.

(g) Associate Administrator for Enforcement. The Associate Administrator for Enforcement is delegated authority to administer the NHTSA enforcement program for all laws, standards, and regulations pertinent to vehicle safety, fuel economy, theft prevention, damageability, consumer information, and odometers, authorized under 49 U.S.C. chapters 301, 323, 325, 327, 329, and 331; conduct testing, inspection, and investigation necessary for the identification and correction of safety-related defects in motor vehicles and motor vehicle equipment and noncompliances with Federal motor vehicle safety standards; make initial decisions concerning alleged safety-related defects and noncompliances with Federal motor vehicle safety standards; grant or deny a manufacturer's petition for decision of inconsequential defect or noncompliance and exemption from the notification and remedy requirements of 49 U.S.C. chapter 301 in connection with a defect or noncompliance; issue regulations relating to the importation of motor vehicles under 49 U.S.C. 30141-30147; and grant and deny petitions for import eligibility determinations submitted to NHTSA by motor vehicle manufacturers and registered importers under 49 U.S.C. 30141.

(h) Associate Administrator for National Center for Statistics and Analysis. The Associate Administrator for National Center for Statistics and Analysis is delegated authority to provide the data, analysis, and evaluation and create and maintain information systems necessary to support the purposes of 49 U.S.C. chapters 301, 303, 323, 325, 327, 329, and 331, 23 U.S.C. chapter 4, any uncodified provisions of law related to such issues, and any cross-cutting safety initiatives; to develop, maintain, and operate the National Driver Register and a nationwide clearinghouse of problem drivers; and to support State integrated highway and traffic records safety information systems.

(i) Associate Administrator for Regional Operations and Program Delivery. The Associate Administrator for Regional Operations and Program Delivery is delegated authority, except for authority reserved to the Administrator, to exercise the powers and perform the duties of the Administrator with respect to grants to States for highway safety programs or other State programs under 23 U.S.C. chapter 4 (except section 403) and uncodified provisions of law, including approval and disapproval of State highway safety plans and vouchers, in accordance with the procedural requirements of the Administration. The Associate Administrator for Regional Operations and Program Delivery is also delegated authority over programs with respect to the authority vested by section 210(2) of the Clean Air Act, as amended (42 U.S.C. 7544(2)); the authority vested by 49 U.S.C. 20134(a) with respect to laws administered by NHTSA pertaining to highway, traffic, and motor vehicle safety, in coordination with the Associate Administrator for Research and Program Development; the authority vested by 23 U.S.C. 153, 154, 158, 161, 163, and 164, in coordination with the Federal Highway Administrator as appropriate; and the authority vested by 23 U.S.C. 404, in coordination with the Associate Administrator for Communications and Consumer Information.

(j) Associate Administrator for Research and Program Development. The Associate Administrator for Research and Program Development is delegated authority to develop and conduct research and development programs and projects necessary to support the purposes of 23 U.S.C. chapter 4, any uncodified provisions of law related to that chapter, and cross-cutting safety initiatives; conduct research and development activities described or specifically enumerated in 23 U.S.C. 403; carry out the functions and exercise the authority vested in the Secretary and Administrator under section 10202 of the Safe, Accountable, Flexible, Efficient Transportation Equity Act: A Legacy for Users, Public Law 109-59 [42 U.S.C. 300d-4], as amended by section 31108 of the Moving Ahead for Progress in the 21st Century Act, Public Law 112-141, relating to emergency medical services, except for authority reserved to the Secretary under § 1.21 or the Administrator under § 501.7; and exercise the authority vested by 49 U.S.C. 20134(a) with respect to laws administered by NHTSA pertaining to highway, traffic, and motor vehicle safety, in coordination with the Associate Administrator for Regional Operations and Program Delivery.

(k) Associate Administrator for Rulemaking. The Associate Administrator for Rulemaking is delegated authority, except for authority reserved to the Administrator or delegated to the Chief Counsel, to exercise the powers and perform the duties of the Administrator with respect to the setting of motor vehicle safety and theft prevention standards, fuel economy standards, procedural regulations, the National Driver Register, and the development of consumer information and odometer regulations authorized under 49 U.S.C. chapters 301, 303, 321, 323, 325, 327, 329, and 331, and any uncodified provisions of law related to such issues. The Associate Administrator for rulemaking is also delegated authority to perform activities that support the development of these regulations and standards; extend comment periods (both self-initiated and in response to a petition or request for extension of time) for noncontroversial rulemakings; make technical amendments or corrections to a final rule; extend the effective date of a noncontroversial final rule; and develop and conduct the New Car Assessment Program.

(l) Associate Administrator for Vehicle Safety Research. The Associate Administrator for Vehicle Safety Research is delegated authority to develop and conduct research, development, test, and evaluation programs and projects necessary to support the purposes of 49 U.S.C. chapters 301, 323, 325, 327, 329, and 331, any uncodified provisions of law related to such issues, and any cross-cutting safety initiatives.

(m) Chief Financial Officer. The Chief Financial Officer is delegated authority to direct the NHTSA planning and evaluation system in conjunction with Departmental requirements and planning goals; coordinate the development of the Administrator's plans, budgets, and programs, and analyses of their expected impact; exercise procurement authority with respect to NHTSA requirements; administer NHTSA financial management programs, including systems of funds control and accounts of all financial transactions; and enter into inter- and intra-departmental reimbursable agreements other than with the head of another Department or agency, provided that this authority to enter into such agreements may be redelegated only to Office Directors and Contracting Officers.

(n) Chief Information Officer. The Chief Information Officer is delegated authority to formulate IT policy, guidance, procedures, security, and best practices; implement an IT capital planning program, an integrated Enterprise Architecture program, and a mission information protection program that ensures privacy, security, and critical infrastructure protection for NHTSA systems and data; and provide for other NHTSA IT functions to support the agency's mission, performance goals, and objectives.

Issued in Washington, DC, under authority delegated in 49 CFR 1.81 and 1.95.
Mark R. Rosekind,
Administrator.

[FR Doc. 2016-02101 Filed 2-3-16; 8:45 am]

BILLING CODE 4910-59-P